FEDERAL COMMUNICATIONS COMMISSION

47 CFR Part 73

[DA 00-2481; MM Docket No. 00-101; RM-9885]

Radio Broadcasting Services; Buckhead and Sparta, GA

AGENCY: Federal Communications Commission.

ACTION: Proposed rule; denial.

SUMMARY: The Commission denies the request of Barinowski Investment Company to substitute Channel 274C3 for Channel 274A, reallot the channel from Sparta to Buckhead, GA, as its first local aural service, and modify the license of Station WPMA-FM accordingly. See 65 FR 37753, June 16, 2000. The Commission found that the proposal would not result in a preferential arrangement of allotments because it would remove the sole local aural service from the more populous community and result in more presently underserved people losing service.

ADDRESSES: Federal Communications Commission, 445 12th Street, SW., Room TW-A325, Washington, DC 20554.

FOR FURTHER INFORMATION CONTACT: Leslie K. Shapiro, Mass Media Bureau, (202) 418-2180.

SUPPLEMENTARY INFORMATION: This is a synopsis of the Commission's Report and Order, MM Docket No. 00-101, adopted October 25, 2000, and released November 3, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Federal Communications Commission.
John A. Karousos,
Chief, Allocations Branch, Policy and Rules Division, Mass Media Bureau.

[FR Doc. 00-29623 Filed 11-17-00; 8:45 am]

BILLING CODE 6712-01-U